OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: C. Penn, Executive Resources Services Group, Center for Human Resources, Division for Human Capital Leadership and Merit System Accountability, 202-606-2246.

SUPPLEMENTARY INFORMATION: Appearing in the listing below are the individual authorities established under Schedules A, B, and C between April 1, 2007, and April 30, 2007. Future notices will be published on the fourth Tuesday of each month, or as soon as possible thereafter. A consolidated listing of all authorities as of June 30 is published each year.

Schedule A

No Schedule A appointments were approved for April 2007.

Schedule B

No Schedule B appointments were approved for April 2007.

Schedule C

The following Schedule C appointments were approved during April 2007.

Section 213.3303 Executive Office of the President

Office of National Drug Control Policy

QQGS70006 Counselor to the Deputy Director for Demand Reduction. Effective April 13, 2007.

Official Residence of the Vice President

RVGS00005 Deputy Social Secretary and Residence Manager to the Assistant to the Vice President and Deputy Chief of Staff. Effective April 10, 2007.

Section 213.3304 Department of State

DSGS61221 Senior Advisor to the Assistant Secretary for Economic and Business Affairs. Effective April 02, 2007.

DSGS61223 Special Assistant to the Assistant Secretary for Public Affairs. Effective April 02, 2007.

DSGS69721 Staff Assistant to the Director, Policy Planning Staff. Effective April 02, 2007.

DSGS69722 Senior Advisor to the Assistant Secretary for Democracy Human Rights and Labor. Effective April 02, 2007.

DSGS61222 Special Assistant to the Principal Deputy Assistant Secretary. Effective April 12, 2007.

Section 213.3305 Department of the Treasury

DYGS60391 Deputy Scheduler to the Chief of Staff. Effective April 10, 2007.

DYGS00490 Special Advisor to the Special Envoy for China and the Strategic Economic Dialogue. Effective April 25, 2007.

DYGS60277 Speechwriter to the Assistant Secretary (Public Affairs). Effective April 25, 2007.

DYGS00491 Senior Advisor to the Assistant Secretary (Deputy Under Secretary) International Affairs. Effective April 26, 2007.

Section 213.3306 Department of Defense

DDGS17028 Staff Assistant to the Special Assistant to the Secretary of Defense for White House Liaison. Effective April 03, 2007.

DDGS17036 Public Affairs Specialist to the Assistant Secretary of Defense Public Affairs. Effective April 11, 2007.

DDGS17027 Special Assistant to the Assistant Secretary of Defense (Legislative Affairs). Effective April 13, 2007.

DDGS17030 Staff Assistant to the Deputy Assistant Secretary of Defense (North Atlantic Treaty Organization and Europe). Effective April 13, 2007.

DDGS17016 Defense Fellow to the Special Assistant to the Secretary of Defense for White House Liaison. Effective April 18, 2007.

DDGS17031 Special Assistant to the Deputy Under Secretary of Defense (Asian and Pacific Security Affairs) Effective April 18, 2007.

DDGS17033 New Media Development Account Assistant to the Assistant Secretary of Defense Public Affairs. Effective April 18, 2007.

DDGS17035 Staff Assistant to the Deputy Assistant Secretary of Defense (Near East and South Asian Affairs). Effective April 18, 2007.

DDGS17034 Administrative Assistant to the Director, Department of Defense Office of Legislative Counsel. Effective April 24, 2007.

Section 213.3307 Department of the Army

DWGS60032 Special Assistant to the Deputy Assistant Secretary of the Army (Environment, Safety and Occupational Health) to the General Counsel. Effective April 18, 2007.

Section 213.3308 Department of the Navy

DNGS07152 Confidential Assistant to the Assistant Secretary of the Navy (Research Development and Acquisition). Effective April 18, 2007.

DNGS07194 Attorney Advisor (General) to the General Counsel. Effective April 18, 2007.

Section 213.3310 Department of Justice

DJGS00302 Associate Director to the Deputy Director. Effective April 04, 2007.

Section 213.3311 Department of Homeland Security

DMGS00653 Assistant Director to the Assistant Secretary for Legislative Intergovernmental Affairs. Effective April 02, 2007.

DMGS00655 Coordinator for Local Affairs to the Director, Office of State and Local Government Coordination. Effective April 02, 2007.

DMGS00654 Associate Director, Ready Campaign to the Assistant Secretary for Public Affairs. Effective April 04, 2007.

DMGS00656 Director of Speechwriting to the Assistant Secretary for Public Affairs. Effective April 05, 2007.

DMGS00657 Special Assistant to the Chief of Staff. Effective April 19, 2007.

DMGS00658 Deputy Press Secretary to the Press Secretary. Effective April 19, 2007.

DMGS00662 Special Assistant to the Assistant Secretary, Immigration and Customs Enforcement. Effective April 25, 2007.

Section 213.3312 Department of the Interior

DIGS01101 Congressional Affairs Specialist to the Director, Congressional and Legislative Affairs. Effective April 11, 2007.

DIGS01099 Deputy Director of Scheduling and Advance to the Director of Scheduling and Advance. Effective April 13, 2007.

DIGS01100 Special Assistant to the Deputy Assistant Secretary—Land and Minerals Management. Effective April 19, 2007.

DIGS01102 Special Assistant to the Assistant Secretary for Water and Science. Effective April 23, 2007.

Section 213.3313 Department of Agriculture

DAGS00887 Special Assistant to the Under Secretary for Farm and Foreign Agricultural Services. Effective April 04, 2007.

DAGS00891 Special Assistant to the Assistant Secretary for Congressional Relations. Effective April 06, 2007.

DAGS00888 Special Assistant to the Under Secretary for Rural Development. Effective April 13, 2007.

DAGS00895 Special Assistant to the Under Secretary for Rural Development. Effective April 20, 2007.

DAGS00896 Special Assistant to the Under Secretary for Rural Development. Effective April 20, 2007.

DAGS00889 Senior Counsel to the General Counsel. Effective April 23, 2007.

DAGS00886 Special Assistant to the Administrator. Effective April 26, 2007.

DAGS00892 Confidential Assistant to the Chief, Natural Research Conservation Service. Effective April 26, 2007.

Section 213.3314 Department of Commerce

DCGS00351 Confidential Assistant to the Deputy General Counsel. Effective April 10, 2007.

DCGS00657 Confidential Assistant to the Director, Executive Secretariat. Effective April 10, 2007.

DCGS00687 Policy Advisor to the Assistant to the Secretary and Director, Office of Policy and Strategic Planning. Effective April 10, 2007.

DCGS00579 Director for Legislative and Intergovernmental Affairs to the Assistant Secretary for Congressional and Intergovernmental Affairs. Effective April 19, 2007.

DCGS00386 Confidential Assistant to the Director, Office of Legislative Affairs. Effective April 26, 2007.

DCGS00686 Director of Advance to the Chief of Staff. Effective April 26, 2007.

Section 213.3315 Department of Labor

DLGS60008 Special Assistant to the Director of Operations. Effective April 02, 2007.

DLGS60145 Intergovernmental Officer to the Assistant Secretary for Congressional and Intergovernmental Affairs. Effective April 04, 2007.

DLGS60192 Special Assistant to the Deputy Assistant Secretary for Policy. Effective April 04, 2007.

DLGS60244 Special Assistant to the Executive Assistant to the Secretary. Effective April 05, 2007.

DLGS60178 Staff Assistant to the Executive Secretary. Effective April 10, 2007.

DLGS60230 Staff Assistant to the Associate Deputy Secretary. Effective April 10, 2007.

DLGS60066 Staff Assistant to the Deputy Assistant Secretary for Federal Contract Compliance. Effective April 19, 2007.

DLGS60226 Special Assistant to the Assistant Secretary for Employee Benefits Security. Effective April 26, 2007.

Section 213.3316 Department of Health and Human Services

DHGS60374 Confidential Assistant to the Executive Secretary to the Department. Effective April 04, 2007.

DHGS60053 Confidential Assistant to the Principal Deputy Assistant Secretary for Planning and Evaluation. Effective April 13, 2007.

Section 213.3317 Department of Education

DBGS00609 Special Assistant to the Under Secretary. Effective April 04, 2007.

DBGS00605 Deputy Secretary's Regional Representative to the Director, Regional Services. Effective April 11, 2007.

DBGS00612 Special Assistant to the General Counsel. Effective April 19, 2007.

DBGS00610 Deputy Assistant Secretary for Higher Education Programs to the Assistant Secretary for Postsecondary Education. Effective April 25, 2007.

DBGS00611 Chief of Staff to the Deputy Assistant Secretary. Effective April 25, 2007.

DBGS00614 Confidential Assistant to the Assistant Secretary, Office of Communications and Outreach. Effective April 25, 2007.

DBGS00616 Special Assistant to the Assistant Secretary for Elementary and Secondary Education. Effective April 25, 2007.

DBGS00613 Special Assistant to the Assistant Secretary for Legislation and Congressional Affairs. Effective April 30, 2007.

DBGS00615 Special Assistant to the Assistant Secretary for Elementary and Secondary Education. Effective April 30, 2007.

Section 213.3318 Environmental Protection Agency

EPGS07008 Media Advisor to the Assistant Administrator for Environmental Information. Effective April 10, 2007.

EPGS07006 Confidential Assistant to the Program Manager (Operations). Effective April 12, 2007.

EPGS07005 Program Advisor (Media Relations) to the Deputy Chief of Staff (Operations). Effective April 16, 2007.

EPGS07003 Deputy of Advance to the Director of Advance. Effective April 25, 2007.

EPGS07004 Communications Specialist to the Principal Deputy Assistant Administrator for Enforcement and Compliance Assurance. Effective April 25, 2007.

Section 213.3331 Department of Energy

DEGS00582 Special Assistant to the Chief of Staff. Effective April 13, 2007.

DEGS00586 Director, Office of Technology Advancement and Outreach to the Chief Operating Officer for Energy Efficiency and Renewable Energy. Effective April 19, 2007.

DEGS00573 Senior Counsel to the General Counsel. Effective April 20, 2007.

DEGS00587 Special Assistant to the Chief of Staff. Effective April 25, 2007.

DEGS00583 Special Assistant to the Chief of Staff. Effective April 26, 2007.

DEGS00589 Senior Advisor to the Chief Operating Officer for Energy Efficiency and Renewable Energy. Effective April 26, 2007.

Section 213.3332 Small Business Administration

SBGS00614 Senior Advisor to the Deputy Administrator. Effective April 11, 2007.

Section 213.3337 General Services Administration

GSGS00187 Deputy Associate Administrator for Congressional and Intergovernmental Affairs to the Principal Deputy Associate Administrator for Congressional and Intergovernmental Affairs. Effective April 05, 2007.

GSGS00188 Senior Advisor to the Regional Administrator (Region Viii-Denver). Effective April 30, 2007.

Section 213.3384 Department of Housing and Urban Development

DUGS60575 Special Assistant to the Assistant Deputy Secretary for Field Policy and Management. Effective April 10, 2007.

Section 213.3391 Office of Personnel Management

PMGS60057 Special Assistant to the Director, Office of Communications and Public Liaison. Effective April 13, 2007.

Section 213.3392 Federal Labor Relations Authority

FAGS60023 Management Assistant to the General Counsel. Effective April 04, 2007.

Section 213.3394 Department of Transportation

DTGS60379 Confidential Assistant to the Assistant to the Secretary and Director of Public Affairs. Effective April 06, 2007.

DTGS60199 Special Assistant to the Associate Administrator for Communications and Legislative Affairs. Effective April 13, 2007.

Authority: 5 U.S.C. 3301 and 3302; E.O. 10577, 3 CFR 1954-1958 Comp., p. 218.

Office of Personnel Management.
Tricia Hollis,
Chief of Staff/Director of External Affairs.

[FR Doc. E7-11217 Filed 6-8-07; 8:45 am]

BILLING CODE 6325-39-P